DEPARTMENT OF HEALTH AND HUMAN SERVICES

Substance Abuse and Mental Health Services Administration Fiscal Year (FY) 2022 Notice of Supplemental Funding Opportunity

AGENCY: Substance Abuse and Mental Health Services Administration, HHS.

ACTION: Notice of intent to award supplemental funding.

SUMMARY: This is a notice of intent to award supplemental funding to the Suicide Prevention Resource Center (SPRC) recipient funded in FY 2020 under Notice of Funding Opportunity (NOFO) SM-20-11. This is to inform the public that the Substance Abuse and Mental Health Services Administration (SAMHSA) is supporting an administrative supplement, which is consistent with the scope of the initial award, of up to $1,609,838, for one-year to the SPRC recipient, University of Oklahoma Health Sciences Center. This recipient was funded in FY 2020 under the SPRC Notice of Funding Opportunity (NOFO) SM-20-011 with a project end date of November 30, 2025. This supplement will provide continued support for the HHS Behavioral Health Coordinating Committee's, Comprehensive Community Suicide Prevention Workgroup in the development of recommendations to increase the community-based suicide prevention infrastructure; provide staff support and technical assistance on a new platform that will be used to train the suicide prevention workforce on approaches to address the needs of individuals at risk for suicide; provide additional suicide prevention technical assistance for states, tribes, territories, and community-based organizations in the implementation of suicide prevention; and conduct an evaluation, in coordination with the National Action Alliance for Suicide Prevention, of 988 call centers to ensure 988 implementation, programmatic and messaging efforts are well informed by the unique needs of populations at high risk or disproportionately impacted by suicide-related behaviors.

This is not a formal request for application. Assistance will only be provided to the SPRC Grant recipient, University of Oklahoma Health Sciences Center, based on the receipt of a satisfactory application and associated budget.

Funding Opportunity Title: Suicide Prevention Resource Center (SPRC) NOFO SM-20-011.

Assistance Listing Number: 93.243.

Authority: The SPRC grant is authorized under Section 520A and 520C of the Public Health Service Act, as amended.

Justification: Eligibility for this supplemental funding is limited to the University of Oklahoma Health Sciences Center which was funded in FY 2020 under the SPRC NOFO SM-20-011. The University of Oklahoma Health Sciences Center since they are currently providing technical assistance on suicide prevention and have specialized expertise conducting needs assessments to understand the attitudes, knowledge, and beliefs regarding suicide of various groups and populations.

Contact: Brandon J. Johnson, Substance Abuse and Mental Health Services Administration, 5600 Fishers Lane, Rockville, MD 20857, telephone (240) 276-1222; email: brandon.johnson1@samhsa.hhs.gov.

Carlos Graham,
Reports Clearance Officer.

[FR Doc. 2022-18975 Filed 9-1-22; 8:45 am]

BILLING CODE 4162-20-P